COMMODITY FUTURES TRADING COMMISSION

Sunshine Act Meeting

TIME AND DATE: 11 a.m., Friday, December 3, 2004.

PLACE: 1155 21st St., NW., Washington, DC, 9th Floor Commission Conference Room.

STATUS: Closed.

MATTERS TO BE CONSIDERED: Surveillance Matters.

FOR FURTHER INFORMATION CONTACT: Jean A. Webb, (202) 418-5100.

Catherine D. Daniels,
Assistant Secretary of the Commission.

[FR Doc. 04-25675 Filed 11-16-04; 10:29 am]

BILLING CODE 6351-01-M